DEPARTMENT OF COMMERCE

Economic Development Administration

Notice of Petitions by Producing Firms for Determination of Eligibility to Apply for Trade Adjustment Assistance

AGENCY: Economic Development Administration (EDA), Department of Commerce (DOC).

ACTION: Notice and Opportunity for Public Comment.

Pursuant to Section 251 of the Trade Act of 1974 (19 U.S.C. 2341 et seq.), the Economic Development Administration (EDA) has received petitions for certification of eligiblility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period September 20 October 18, 2005
Firm | Address | Date petition accepted | Product
Industrial Rubber Products, LLC | 415 Sonnier Road, Carencro, LA 70525 | 20-Sep-05 | Rubber products including gaskets and seals.
Gulf Packing Company, L.P. | 618 Commerce, San Benito, TX 78586 | 20-Sep-05 | Fresh meat.
Delaware Diamond Knives, Inc. | 3825 Lancaster Pike, Wilmington, DE 19805 | 20-Sep-05 | Diamond and steel knives for use in medical research and manufacturing operations, ophthalmic surgery and pathology.
Travis Pattern & Foundry, Inc. | 1413 E. Hawthrone Road, Spokane, WA 99218 | 20-Sep-05 | Irrigation system equipment, power connectors and various foundry products such as aluminum castings.
Rhema Durascreen, Inc | 14950 Industrial Park Drive, Lead Hill, AR 72644 | 20-Sep-05 | Wooden and aluminum frames for screen printing.
RB Industries Inc | 1801 Vine, Harrisonville, MO 67701 | 22-Sep-05 | Saws, planer/mounler/rip machines, router equipment and other woodworking accessories.
Diamond Fruit Growers, Inc | 3515 Chevron Drive, Hood River, OR 97031 | 22-Sep-05 | Processes and packs pears, cherries, and a small amount of apples.
Arlington Machine and Tool Co. | 99 New Dutch Lane, Fairfield, NJ 07004 | 18-Oct-05 | Machined parts and assemblies for various industries.
Laud Engineering Corp., Laub/Hunt Packaging Systems | 13547 Excelsior Drive, Norwalk, CA 90505 | 18-Oct-05 | Packaging equipment.
Goulston Technologies, Inc | 700 N. Johnson Street, Monroe, NC 28110 | 18-Oct-05 | Preparation for the treatment of textile materials.
Syracuse Plastics, LLC | 7400 Morgan Road, Liverpool, NY 13090 | 18-Oct-05 | Plastic injection molding.
Fenton Art Glass, Inc | 700 Elizabeth Street, Williamstown, WV 26187 | 18-Oct-05 | Manufacturer of blown and decorative glass.
Mack & Mack Inc | 220 South Elm Street, Greensboro, NC 27401 | 18-Oct-05 | Manufactures and distributes better woman's tops, pants, jackets, skirts, dresses, coats and accessories.
Fuzetron, Inc., dba Creative Industries | 1946 John Tower Avenue, El Cajon, CA 92020 | 18-Oct-05 | Pottery wheels.
Northwest Aluminum Specialties, Inc | 3313 West Second Street, The Dalles, OR 97058 | 18-Oct-05 | Aluminum bars of various sizes.

Any party having a substantial interest in the proceedings may request a public hearing on the matter. A written request for a hearing must be submitted to the Office of Chief Counsel, Room 7005, Economic Development Administration, U.S. Department of Commerce, Washington, DC 20230, no later than ten calendar days following publication of this notice. Please follow the procedures set forth in Section 315.9 of EDA's interim final rule (70 FR 47002) for procedures for requesting a public hearing. The Catalog of Federal Domestic Assistance official program number and title of the program under which these petitions are submitted is 11.313, Trade Adjustment Assistance.

Dated: October 18, 2005.
Benjamin Erulkar,
Chief Counsel.

[FR Doc. 05-21181 Filed 10-21-05; 8:45 am]

BILLING CODE 3510-24-M